ENVIRONMENTAL PROTECTION AGENCY

[FRL-9986-39-OARM]

Senior Executive Service Performance Review Board; Membership

AGENCY: U.S. Environmental Protection Agency (EPA).

ACTION: Notice.

SUMMARY: Notice is hereby given of the membership of the U.S. Environmental Protection Agency Performance Review Board for 2018.

FOR FURTHER INFORMATION CONTACT: Debbi Hart, Director, Policy, Planning & Training Division, 3601M, Office of Human Resources, Office of Administration and Resources Management, U.S. Environmental Protection Agency, 1200 Pennsylvania Avenue NW, Washington, DC 20460 (202) 564-2011.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2018 EPA Performance Review Board are:

Richard Buhl, Assistant Regional Administrator for Technical and Management Services, Region 8

Sheryl Bilbrey, Director, Office of Environmental Cleanup, Region 10

David Bloom, Deputy Chief Financial Officer, Office of the Chief Financial Officer

Wesley Carpenter, (Ex-Officio), Acting Director, Office of Human Resources, Office of Administration and Resources Management

Katrina Cherry, Director, Office of Management and International Services, Office of International and Tribal Affairs

Edward Chu, Deputy Regional Administrator, Region 7

Diana Esher, Assistant Regional Administrator for Policy and Management, Region 3

Lynn Flowers, Associate Director for Science, Office of Science Policy, Office of Research and Development

Sheila Frace, Deputy Director, Office of Wastewater Management, Office of Water

Jeanneanne Gettle, Director, Water Protection Division, Region 4

Peter Grevatt, Director, Office of Ground Water and Drinking Water, Office of Water

Christopher Grundler, Director, Office of Transportation and Air Quality, Office of Air and Radiation

Debbi Hart, (Ex-Officio), Director, Policy, Planning and Training Division, Office Administration and Resources Management

Randy Hill, Director, Enforcement Targeting and Data Division, Office of Enforcement and Compliance Assurance

Kathleen Johnson, Director, Enforcement Division, Region 9

Deborah Jordan, Deputy Regional Administrator, Region 9

Mark Kasman, Director, Office of Regional and Bilateral Affairs, Office of International and Tribal Affairs

Richard Keigwin, Director, Office of Pesticide Programs, Office of Chemical Safety and Pollution Prevention

Arnold Layne, Deputy Director, Office of Pesticides Programs, Office of Chemical Safety and Pollution Prevention

Kenneth Lapierre, Assistant Regional Administrator for Policy and Management, Region 4

Matthew Leopard, Director, Office of Information Management, Office of Environmental Information

David Lloyd, Director, Office of Brownfields and Land Revitalization, Office of Land and Emergency Management

Rohit Mathur, Senior Atmospheric Scientist, Office of Research and Development

James McDonald, Assistant Regional Administrator for Management, Region 6

Albert McGartland, Director, National Center for Environmental Economics, Office of the Administrator

Kenneth Moraff, Director, Office of Ecosystem Protection, Region 1

Ed Nam, Director, Air and Radiation Division, Region 5

Jennifer Orme-Zaveleta, Deputy Assistant Administrator (Science), Office of Research and Development

Howard Osborne, Associate Chief Financial Officer, Office of the Chief Financial Officer

Elise Packard, Associate General Counsel, Civil Rights and Finance Law, Office of General Counsel

Denise Polk, Director, Office of Grants and Debarment, Office of Administration and Resources Management

Sylvia Quast, Regional Counsel—Region 9, Office of Enforcement and Compliance Assurance

Mary Ellen Radzikowski, Deputy Director for Management, National Center for Environmental Research, Office of Research and Development

Robin Richardson, Principal Deputy Associate Administrator, Office of Congressional and Intergovernmental Relations, Office of the Administrator

Cecil Rodrigues, Deputy Regional Administrator, Region 3

Gregory Sayles, Director, National Homeland Security Research Center, Office of Research and Development

Lorie Schmidt, Principal Associate General Counsel, Office of General Counsel

Nigel Simon, Director, Office of Program Management, Office of Land and Emergency Management

Vicki Simons, (Ex-Officio), Director, Office of Civil Rights, Office of the Administrator

Donna J. Vizian, (Ex-Officio), Principal Deputy Assistant Administrator, Office of Administration and Resources Management

Jeffrey Wells, Director, Office of Customer Advocacy Policy and Portfolio Management, Office of Environmental Information

Pai-Yei Whung, Senior Research Scientist, Office of Research and Development

Anahita Williamson, Director, Environmental Science and Assessment Division, Region 2

Helena Wooden-Aguilar, (Ex-Officio), Acting Deputy Chief of Staff, Office of the Administrator

Dated: November 1, 2018.
Donna J. Vizian,
Principal Deputy Assistant Administrator, Office of Administration and Resources Management.

[FR Doc. 2018-24741 Filed 11-9-18; 8:45 am]

BILLING CODE 6560-50-P